DEPARTMENT OF THE TREASURY

Senior Executive Service; Departmental Offices; FY 2006 Performance/Bonus Year Review Board

AGENCY: Treasury Department.

ACTION: Notice of membership of the Departmental Offices Performances Review Board.

Effective Date: Membership is effective on the date of this notice.

SUMMARY: Pursuant to 5 U.S.C. 4314(c)(4), this notice announces the appointment of members of the Departmental Offices Performance Review Board. The purpose of this Board is to review and make recommendations concerning proposed Performance ratings, bonuses and other appropriate personnel actions for incumbents of SES positions. The Board shall consist of at least three members. In the case of an appraisal of a career appointee, more than half the members shall consist of career appointees. The names and titles of the Board members are attached.

FOR FURTHER INFORMATION CONTACT: Melissa Talavera, Supervisory Human Resources Specialist, Department of the Treasury, Office of Human Resources, 1500 Pennsylvania Avenue, NW., Washington, DC 20220, Telephone: 202-622-1044.

Melissa Talavera,
Director, Office of Human Resources.

FY 2006 Performance Review Board
[For Listing in Federal Register]
Name | Official title
Carfine, Kenneth Edward | DAS for Fiscal Operations and Policy.
Carroll, Robert J | DAS (Tax Analysis).
Eddy, Lynn M | Associate Chief Information Officer.
Foster, Wesley T | DAS (Management and Budget).
Fuller, Reese H | ACD Program Director.
Gerardi, Geraldine A | DIR for Business and Intl Taxation.
Glaser, Daniel L | DAS, Executive OFC of TERR FIN & FIN C.
Granat, Rochelle F | Deputy Asst SEC for HR and Chief Human.
Grissom, Janan G | White House Liaison.
Hammerle, Barbara C | Deputy Director, Office of Foreign Ass.
Hastings, Charles R | Deputy to Dep Asst SEC for HR.
Hobbs, Ira L | DAS & Chief Information Officer.
Kieffer, Donald W | Director, Office of Tax Analysis.
Lee, Nancy | DAS (Erasia & Middle East).
Levitt, Matthew A | DAS (Intelligence & Analysis).
MacMillan, Kevin M | DAS for Legis Affrs (Banking &FNAN).
Mathiasen, Daren V | Dir OFC of Fin Recon and Stab.
McDonald, William L | DAS (Technical Assistance Policy).
Nason, David G | Dept. Ast Sec for (Fin Inst & Gse Pol).
Nunns, James R | Dir for Individual Taxation.
Peel, Kenneth L | DAS Multilateral Dev Banks (IA).
Reed, Kimberly A | Counselor to the Secretary.
Ryan, Anthony W | Senior Advisor to the Secretary.
Shaw, Mary Beth, | Principal Advisor to Asst Sec for Mgmt.
Sills, Gay H | Dir, Ofc of International Investment.
Skud, Timothy E | DAS Tax, Trade and Tariff Policy.
Tvardek, Steven F | Director, Office of Trade Finance.
Wilkinson, James R | Chief of Staff.

[FR Doc. 06-9041 Filed 11-2-06; 8:45 am]

BILLING CODE 4811-42-M